DEPARTMENT OF LABOR

Pension and Welfare Benefits Administration

115th Full Meeting of the Advisory Council on Employee Welfare and Pension Benefits Plans; Notice of Meeting

Pursuant to the authority contained in section 512 of the Employee Retirement Income Security Act of 1974 (ERISA), 29 U.S.C. 1142, the 115th open meeting of the full Advisory Council on Employee Welfare and Pension Benefit Plans will be held Wednesday, September 12, 2001, in Conference Room N-5437 A-C, U.S. Department of Labor Building, 200 Constitution Avenue, NW., Washington, DC 20210.

The purpose of the meeting, which will begin at 1:00 p.m. and end at approximately 3:30 p.m. is for members to be updated on activities of the Pension and Welfare Benefits Administration and for chairs of this year's working groups to provide mid-year progress reports on their individual study topics.

Members of the public are encouraged to file a written statement pertaining to any topics the Council may be studying during 2001 by submitting 20 copies on before September 4, 2001 to Sharon Morrissey, Executive Secretary, ERISA Advisory Council, U.S. Department of Labor, Suite N-5677, 200 Constitution Avenue, NW., Washington, DC 20210. Individuals or representatives of organizations wishing to address the Advisory Council should forward their requests to the Executive Secretary or telephone (202) 219-8921. Oral presentations will be limited to ten minutes, time permitting, but an extended statement may be submitted for the record. Individuals with disabilities, who need special accommodations, should contact Sharon Morrissey by September 4 at the address indicated.

Organizations or individuals may also submit statements for the record without testifying Twenty (20) copies of such statements should be sent to the Executive Secretary of the Advisory Council at the above address. Papers will be accepted and included in the record of the meeting if received on or before September 4, 2001.

Dated: Signed at Washington, DC this 15th day of August, 2001.
Ann L. Combs,
Assistant Secretary, Pension and Welfare Benefits Administration.

[FR Doc. 01-21021 Filed 8-20-01; 8:45 am]

BILLING CODE 4510-29-M